DEPARTMENT OF ENERGY

Agency Information Collection Extension

AGENCY: U.S. Department of Energy.

ACTION: Notice and Request for Comments.

SUMMARY: The Department of Energy (DOE), pursuant to the Paperwork Reduction Act of 1995, intends to extend for three years, an information collection package with the Office of Management and Budget (OMB). The Department's Office of Environment, Safety and Health information collection package, 1910-5105, allows the Department and its contractors to provide management control and oversight over health and safety programs concerning worker exposure to ionizing radiation. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 26, 2004. If you anticipate difficulty in submitting comments within that period, contact one of the persons listed in the ADDRESSES section as soon as possible.

ADDRESSES: Written comments may be sent to:

Dr. Judith D. Foulke, Office of Worker Protection Policy and Programs (EH-52), Building 270/CC, Office of Environment, Safety and Health, U.S. Department of Energy, 1000 Independence Ave., SW., Washington, DC 20585-1290; or by fax at (301) 903-7773 or by e-mail at Judy.Foulke@eh.doe.gov.

Susan L. Frey, Director, Records Management Division, (IM-11), Germantown Bldg., Office of the Chief Information Officer, U.S. Department of Energy, 1000 Independence Ave., SW., Washington, DC 20585-1290, or by fax at (301) 903-9061 or by e-mail at sharon.evelin@hq.doe.gov.

FOR FURTHER INFORMATION CONTACT: Requests for additional information or copies of the information collection instrument and instructions should be directed to the two individuals specified in the ADDRESSES section.

SUPPLEMENTARY INFORMATION: This package contains: (1) Current OMB Number: OMB No. 1910-5105; (2) Package Title: Occupational Radiation Protection; (3) Type of Review: Renewal; (4) Purpose: the recordkeeping and reporting requirements that comprise this information collection will permit DOE and its contractors to provide management control and oversight over health and safety programs concerning worker exposure to ionizing radiation; (5) Respondents: 35 DOE management and operating contractors and 15 other contractors; (6) Estimated Number of Burden Hours: 50,000 following each revision of 10 CFR 835 and 5000 for other years.

Statutory Authority: Section 3507(h)(1) of the Paperwork Reduction Act of 1995 (Publication No. 104-13) (44 U.S.C. 3501 et seq.).

Issued in Washington, DC on May 21, 2004.
Susan L. Frey,
Director, Records Management Division, Office of the Chief Information Officer.

[FR Doc. 04-12032 Filed 5-26-04; 8:45 am]

BILLING CODE 6450-01-P